FEDERAL COMMUNICATIONS COMMISSION

Notice of Public Information Collection(s) Being Reviewed by the Federal Communications Commission

February 24, 2000.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written comments should be submitted on or before April 3, 2000. If you anticipate that you will be submitting comments, but find it difficult to do so within the period of time allowed by this notice, you should advise the contact listed below as soon as possible.

ADDRESSES: Direct all comments to Judy Boley, Federal Communications Commission, Room 1-C804, 445 12th Street, SW, DC 20554 or via the Internet to jboley@fcc.gov.

FOR FURTHER INFORMATION CONTACT: For additional information or copies of the information collection(s), contact Judy Boley at 202-418-0214 or via the Internet at jboley@fcc.gov.

SUPPLEMENTARY INFORMATION:

OMB Control No.: 3060-XXXX.

Title: Broadcast Statement of Compliance.

Form No.: FCC Form 397.

Type of Review: New collection.

Respondents: Business or other for-profit, not-for-profit institutions.

Number of Respondents: 4,500.

Estimated Time Per Response: 0.5 hours.

Frequency of Response: Recordkeeping requirement; Reporting requirement every second, fourth and sixth year of a station's license term.

Total Annual Burden: 2,250 hours.

Total Annual Cost: Not applicable.

Needs and Uses: The FCC Form 397 is required to be filed by all licensees of AM, FM, TV, international and LPTV broadcast stations. It is a data collection device filed every second, fourth, and sixth year of a station's license term. The FCC Form 397 will be used by FCC staff and interested parties to monitor a broadcaster's compliance with the Commission's EEO requirements throughout the license term.

OMB Control No.: 3060-XXXX.

Title: Election Statement.

Form No.: N/A.

Type of Review: New collection.

Respondents: Business or other for-profit, not-for-profit institutions.

Number of Respondents: 13,364.

Estimated Time Per Response: 3 hours.

Frequency of Response: Reporting requirement—on occasion and other: within 45 days of the effective date of the new rules.

Total Annual Burden: 40,082 hours.

Total Annual Cost: $5,345,600.

Needs and Uses: Broadcasters and cable entities can choose between supplemental recruitment measures or alternative recruitment program. Broadcasters and cable entities are required to file with the Commission and place in their public inspection files an election statement indicating which approach they choose to implement within 45 days of the effective date of the new EEO rules. This election statement will make the Commission and the public aware of the approach the broadcaster/cable entity intends to implement.

OMB Control No.: 3060-0212.

Title: Section 73.2080, Equal Employment Opportunity Program.

Form No.: N/A.

Type of Review: Revision of a currently approved collection.

Respondents: Business or other for-profit, not-for-profit institutions.

Number of Respondents: 11,239.

Estimated Time Per Response: 42-52 hours.

Frequency of Response: Recordkeeping requirement; annual reporting requirement.

Total Annual Burden: 528,238 hours.

Total Annual Cost: Not applicable.

Needs and Uses: Section 73.2080 requires that each broadcast station shall establish, maintain and carry out a program to ensure equal employment opportunity in every aspect of a station's policy and practice. The data is used by a broadcast licensee in the preparation of the station's EEO program (FCC Form 396) submitted with the license renewal application, FCC Form 397, and the annual EEO public file report.

OMB Control No.: 3060-0349.

Title: Sections 76.73, 76.75, 76.79, and 76.1702, Cable EEO Requirements.

Form No.: N/A.

Type of Review: Revision of a currently approved collection.

Respondents: Business or other for-profit.

Number of Respondents: 5,600.

Estimated Time Per Response: 42-52 hours.

Frequency of Response: Recordkeeping requirement; annual reporting requirement.

Total Annual Burden: 127,680 hours.

Total Annual Cost: Not applicable.

Needs and Uses: Sections 76.73 and 76.75 require each cable/MVPD employment unit to establish, maintain and carry out a program to ensure equal employment opportunity in every aspect of a cable entity's policy and practice. Sections 76.79 and 76.1702 require every cable/MVPD employment unit to maintain, for public inspection, a file containing copies of all annual employment reports and related documents. The data is used by cable/MVPD units in the preparation of the Annual Employment Report (FCC Forms 395-A/395-M) and the EEO public file report.

Federal Communications Commission.
Magalie Roman Salas,
Secretary.

[FR Doc. 00-5102 Filed 3-2-00; 8:45 am]

BILLING CODE 6712-01-P